INTERNATIONAL TRADE COMMISSION

[Investigation No. 337-TA-687]

In the Matter of Certain Video Displays, Components Thereof, and Products Containing Same; Notice of Commission Decision Not To Review an Initial Determination Granting Complainant's Motion To File a Second Amended Complaint and To Amend the Notice of Investigation

AGENCY: U.S. International Trade Commission.

ACTION: Notice.

SUMMARY: Notice is hereby given that the U.S. International Trade Commission has determined not to review an initial determination (“ID”) (Order No. 12) of the presiding administrative law judge (“ALJ”) granting complainant's motion to file a second amended complaint and to amend the notice of investigation in the above-captioned investigation.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 16, 2009, based on a complaint filed by LG Electronics, Inc. (“LGE”) of Korea. 74 FR 47616. The complaint, as amended, alleges violations of section 337 of the Tariff Act of 1930, as amended, 19 U.S.C. 1337, in the importation into the United States, the sale for importation, and the sale within the United States after importation of certain video displays, components thereof, and products containing same by reason of infringement of certain claims of U.S. Patent Nos. 5,790,096; 5,537,612; 5,459,522; and 7,154,564. The complaint further alleges the existence of a domestic industry. The Commission's notice of investigation named the following respondents: Funai Electric Company, Ltd. of Japan; Funai Corporation, Inc. of Rutherford, New Jersey; P&F USA, Inc. of Alpharetta, Georgia; and Vizio, Inc. of Irvine, California.

On November 25, 2009, complainant filed a motion for leave to file a second amended complaint and to amend the notice of investigation to add the following respondents to the investigation: AmTran Technology Co., Ltd. of Taiwan; and AmTran Logistics, Inc. of Irvine, California (collectively “AmTran”).

On January 8, 2010, the ALJ issued the subject ID granting complainant's motion for leave to file a second amended complaint and to amend the notice of investigation. On January 20, 2010, the ALJ issued an order (Order No. 13) suspending the current procedural schedule of the investigation until a new one can be set in the second half of February 2010. On January 21, 2010, Amtran petitioned for review of the ID. On January 26, 2010, the Commission investigative attorney and LGE each filed a response in opposition to Amtran's petition for review. The Commission has determined not to review this ID. The Commission notes that the ALJ has the authority to move the hearing dates and target date to avoid any resulting prejudice to AmTran being added as a respondent over four months after institution of the investigation.

The authority for the Commission's determination is contained in section 337 of the Tariff Act of 1930, as amended, 19 U.S.C. 1337, and in sections 210.14, 210.42(c), and 210.43(d) of the Commission's Rules of Practice and Procedure, 19 CFR 210.14, 210.42(c), 210.43(d).

By order of the Commission.
Issued: February 12, 2010.
Marilyn R. Abbott,
Secretary to the Commission.

[FR Doc. 2010-3250 Filed 2-18-10; 8:45 am]

BILLING CODE 7020-02-P